FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than August 3, 2021.

A. Federal Reserve Bank of Atlanta (Erien O. Terry, Assistant Vice President) 1000 Peachtree Street NE, Atlanta, Georgia 30309. Comments can also be sent electronically to Applications.Comments@atl.frb.org:

1. Jeremy Francis Gilpin, South Lake Tahoe, California, and Jeffrey Alan Smith, Atlanta, Georgia; as a group acting in concert, to acquire voting shares of Community Bankshares, Inc., LaGrange, Georgia, and thereby indirectly acquire voting shares of Community Bank and Trust—West Georgia, LaGrange, Georgia, and Community Bank and Trust—Alabama, Union Springs, Alabama.

B. Federal Reserve Bank of Chicago (Colette A. Fried, Assistant Vice President) 230 South LaSalle Street, Chicago, Illinois 60690-1414:

1. Brian Herbstritt Revocable Trust, Chicago, Illinois, Brian Herbstritt, as trustee, River Forest, Illinois; the Deborah Herbstritt Revocable Trust, Chicago, Illinois, Deborah Maloney, as trustee, River Forest, Illinois; and the Amy Reardon Revocable Trust, Chicago, Illinois, Amy Reardon, as trustee, River Forest, Illinois; to join the Herbstritt Family Control Group, a group acting in concert, to retain voting shares of Schaumburg Bancshares, and thereby indirectly retain voting shares of Heritage Bank of Schaumburg, both of Schaumburg, Illinois.

Board of Governors of the Federal Reserve System, July 14, 2021.
Michele Taylor Fennell,
Deputy Associate Secretary of the Board.

[FR Doc. 2021-15307 Filed 7-16-21; 8:45 am]

BILLING CODE P